DEPARTMENT OF COMMERCE

Submission for OMB Review; Comment Request

The Department of Commerce will submit to the Office of Management and Budget (OMB) for clearance the following proposal for collection of information under the provisions of the Paperwork Reduction Act (44 U.S.C. Chapter 35).

Agency: Economic Development Administration (EDA).

Title: Revolving Loan Fund Reporting and Compliance Requirements.

Form Number(s): ED-209 (replaces ED-209S and ED-209A), ED-209I.

OMB Approval Number: 0610-0095.

Type of Review: Regular submission.

Burden Hours: 3,679.

Number of Respondents: 584.

Average Hours Per Response: ED-209, 2 hours and 54 minutes; and ED-209I, 15 minutes.

Needs and Uses: The mission of the Economic Development Administration (EDA) is to lead the federal economic development agenda by promoting innovation and competitiveness, preparing American regions for growth and success in the worldwide economy. One of EDA's seven economic development programs is the Revolving Loan Fund (RLF) Program. EDA may award competitive grants to units of local government, state governments, institutions of higher education, public or private non-profit organizations, district organizations, and tribal governments to establish RLFs. Following grant award and fulfillment of EDA's pre-disbursement requirements, an RLF grantee may disburse grant funds to make loans at interest rates that are at or below current market rate to small businesses or to businesses that cannot otherwise borrow capital. As the loans are repaid, the grantee uses a portion of interest earned to pay for administrative expenses and adds remaining principal and interest repayments to the RLF's capital base to make new loans. The information contained in the ED-209, ED-209I, and RLF Plan, submitted by the grantee, will be used by EDA personnel to monitor the compliance of RLF grantees with legal and programmatic requirements, and to ensure that EDA exercises adequate fiduciary responsibility over its portfolio.

Affected Public: Business or other for-profit organizations; not-for-profit institutions; state, local or tribal government.

Frequency: Semi-annually.

Respondent's Obligation: Mandatory.

OMB Desk Officer: David Roster, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 4, 2008.
Gwellnar Banks,
Management Analyst, Office of the Chief Information Officer.

[FR Doc. E8-12801 Filed 6-6-08; 8:45 am]

BILLING CODE 3510-34-P